DEPARTMENT OF THE INTERIOR

Fish and Wildlife Service

[FWS-R5-R-2012-N061; BAC-4311-K9-S3]

Prime Hook National Wildlife Refuge, Sussex County, DE; Draft Comprehensive Conservation Plan and Environmental Impact Statement

AGENCY: Fish and Wildlife Service, Interior.

ACTION: Notice of availability; request for comments.

SUMMARY: We, the U.S. Fish and Wildlife Service (Service), announce the availability of a draft comprehensive conservation plan and draft environmental impact statement (draft CCP/EIS) for Prime Hook National Wildlife Refuge (NWR), located in Sussex County, Delaware, for public review and comment. The draft CCP/EIS describes our proposal for managing the refuge for the next 15 years following the approval of the final CCP. Also available for public review and comment are: (1) The draft findings of appropriateness and draft compatibility determinations for uses to be allowed upon initial completion of the plan if Service-preferred alternative B is selected, (2) the draft habitat management plan, and (3) the draft hunting plan. These are included as appendix E, appendix B, and appendix C, respectively, in the draft CCP/EIS.

DATES: To ensure consideration, please send your comments no later than August 6, 2012. We will announce upcoming public meetings in local news media, via our project mailing list, and on our regional planning Web site: http://www.fws.gov/northeast/planning/Prime%20Hook/ccphome.html.

ADDRESSES: You may submit comments or requests for copies or more information by any of the following methods. You may request hard copies or a CD-ROM of the documents.

Email: northeastplanning@fws.gov. Please include “Prime Hook NWR Draft CCP” in the subject line of the message.

Fax: Attn: Thomas Bonetti, 413-253-8468.

U.S. Mail: Thomas Bonetti, U.S. Fish and Wildlife Service, 300 Westgate Center Drive, Hadley, MA 01035.

In-Person Drop-off, Viewing, or Pickup: Call 302-684-8419 to make an appointment (necessary for view/pickup only) during regular business hours at 11978 Turkle Pond Road, Milton, DE 19968. For more information on locations for viewing or obtaining documents, see “Public Availability of Documents” under SUPPLEMENTARY INFORMATION.

FOR FURTHER INFORMATION CONTACT: Michael Stroeh, Project Leader, 302-653-9345, or Tom Bonetti, Planning Team Leader, 413-253-8307 (phone); northeastplanning@fws.gov (email).

SUPPLEMENTARY INFORMATION:

Introduction

With this notice, we continue the CCP process for Prime Hook NWR. We started this process through a notice in the Federal Register (70 FR 60365; October 17, 2005) announcing that we were preparing a CCP and environmental assessment (EA). On May 9, 2011, we issued a second notice in the Federal Register (76 FR 26751) announcing we were preparing an EIS in conjunction with the CCP.

In 1963, Prime Hook NWR was established under the authority of the Migratory Bird Conservation Act (16 U.S.C. 715-715r) for use as an inviolate sanctuary, or any other management purpose, expressly for migratory birds. Farms and residences were once present on portions of what is now the refuge. Established primarily to preserve coastal wetlands as wintering and breeding habitat for migratory waterfowl, Prime Hook NWR's 10,133 acres stretch along the west shore of Delaware Bay, 22 miles southeast of Dover, Delaware. Eighty percent of the refuge's vegetation cover types is characterized by tidal and freshwater creek drainages that discharge into the Delaware Bay and associated coastal marshes. The remaining 20 percent is composed of upland habitats. The land uses near the refuge are intensive agricultural and developed residential.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Public Outreach

We started pre-planning for the Prime Hook NWR CCP in September 2004. In June 2005, we distributed our first newsletter and press release announcing our intent to prepare a CCP for the refuge. In November 2005, we had a formal public scoping period. The purpose of the public scoping period was to solicit comments from the community and other interested parties on the issues and impacts that should be evaluated in the draft CCP/EA. To help solicit public comments, we held three public meetings in Milton, Dover, and Lewes, DE, which 110 members of the public attended. Throughout the rest of the planning process, we have conducted additional outreach by participating in community meetings, events, and other public forums, and by requesting public input on managing the refuge and its programs.

CCP Alternatives We Are Considering

During the public scoping process, we, other governmental partners, and the public, raised several issues. To address these issues, we developed and evaluated three alternatives in the draft CCP/EIS. Here we present a brief summary of each of the alternatives; a full description of each alternative is in the draft CCP/EIS.

Alternative A (Current Management)

Alternative A (current management) satisfies the National Environmental Policy Act (40 CFR 1506.6(b)) requirement of a “No Action” alternative, which we define as “continuing current management.” It primarily describes our existing management priorities and activities, and involves no active management of wetlands due to recent extensive changes along the refuge shoreline; it also involves no active forest management and no agricultural management of upland fields. It serves as a baseline for comparing and contrasting alternatives B and C. It would maintain our current public use programs. Under alternative A, our biological program would continue its present priorities: Conserving and enhancing waterfowl and shorebird habitats, maintaining habitat for the Delmarva fox squirrel, cooperating with State partners in monitoring bald eagles and fox squirrels, protecting bald eagle and osprey active nest sites from human disturbance on refuge lands, using prescribed fire to reduce fuel hazards near beach communities, simulating natural fire processes on refuge habitats, and conducting wildlife and habitat monitoring. We would continue to offer hunting and fishing opportunities on refuge lands, and respond to requests for interpretive and school programs.

Alternative B (Service-Preferred)

This alternative is the Service-preferred alternative. It combines the actions we believe would most effectively achieve the refuge's purposes, vision, and goals and responds to the issues raised during the scoping period. Under alternative B, the refuge would actively manage habitat to mimic natural processes and restore habitat quality. At the same time, the refuge would strategically reduce management actions that are contrary to the directions of the biological integrity, diversity, and environmental health policy, such as artificial maintenance of extensive freshwater wetlands that are vulnerable to sea level rise. Alternative B would enhance visitor services through a proposed expansion of the hunting program with greater administrative efficiency, new hiking trails, and expanded fishing opportunities and environmental education programs. Under alternative B, we would not reinstate the cooperative farming program; instead, we would propose to restore areas previously farmed to native forest habitat.

Alternative C (Historic Habitat Management)

Alternative C emphasizes a return to habitat management programs that were conducted on the refuge through most of its existence, but were stopped in recent years for a variety of reasons. The historic habitat management programs conducted for the benefit of migratory birds include the use of cooperative farming in upland refuge fields and management of freshwater wetland impoundments. Under this alternative, we would conduct necessary infrastructure and duneline enhancements to re-establish management of freshwater impoundments. In contrast to alternatives A or B, alternative C less effectively addresses the refuge's purposes, mission, and Service policies, as it is less likely to be naturally sustainable, will require perpetual intervention to sustain dunes in their former location, and will be more vulnerable to coastal storm events that may overtop an artificially maintained barrier and introduce salt water into a managed freshwater marsh system. Upland fields previously enrolled in the cooperative farming program would once again be managed through farming practices with the cooperation of local farmers. Alternative C would expand opportunities for hunting and have a greater emphasis on public outreach and education. Compared to alternative B, however, alternative C would decrease the amount of hunting areas and opportunities. Fishing, wildlife observation, and wildlife photography would be similar to those in alternative A. Under alternative C, we would further enhance local community outreach and partnerships, continue to support a friends group, and continue to provide valuable volunteer experiences. We would also promote research and the development of applied management practices through local universities to sustain and enhance natural composition, patterns, and processes within their range on the Delmarva Peninsula.

Public Availability of Documents

In addition to any methods in ADDRESSES, you can view or obtain documents on the refuge Web site: http://www.fws.gov/northeast/planning/Prime%20Hook/ccphome.html.

Submitting Comments/Issues for Comment

We are seeking substantive comments, particularly on the following issues:

• Issue 1—Climate change, sea-level rise, and marshes;

• Issue 2—Mosquito control;

• Issue 3—Cooperative farming;

• Issue 4—Hunting; and

• Issue 5—Nuisance species

We consider comments substantive if they:

• Question, with reasonable basis, the accuracy of the information in the document;

• Question, with reasonable basis, the adequacy of the EIS;

• Present reasonable alternatives other than those presented in the EIS; and/or

• Provide new or additional information relevant to the EIS.

Next Steps

After this comment period ends, we will analyze the comments and address them in the form of a final CCP/EIS.

Public Availability of Comments

Before including your address, phone number, email address, or other personal identifying information in your comment, you should be aware that your entire comment—including your personal identifying information—may be made publicly available at any time. While you can ask us in your comment to withhold your personal identifying information from public review, we cannot guarantee that we will be able to do so.

Dated: May 2, 2012.
Henry Chang,
Acting Regional Director, Northeast Region.

[FR Doc. 2012-13074 Filed 5-30-12; 8:45 am]

BILLING CODE 4310-55-P